DEPARTMENT OF DEFENSE

Office of the Secretary

[Transmittal Nos. 13-59]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-59 with attached transmittal, policy justification, and Sensitivity of Technology.

Dated: November 13, 2013.
Aaron Siegel,
Alternate OSD Federal Register Liaison Officer, Department of Defense.

Transmittal No. 13-59

Notice of Proposed Issuance of Letter of Offer Pursuant to Section 36(b)(1) of the Arms Export Control Act, as amended

(i) Prospective Purchaser: Romania

(ii) Total Estimated Value:

Major Defense Equipment* | $101 million
Other | 356 million
TOTAL | 457 million

(iii) Description and Quantity or Quantities of Articles or Services under Consideration for Purchase: Weapons, equipment, and support for 12 F-16 MLU Block 15 aircraft that will be procured through a third party transfer from Portugal. Articles and services will include:

13 Embedded Global Positioning Systems/Inertial Navigation Systems (EGPS/INS) with GPS Security Devices, Airborne

3 AN/ALQ-131 Electronic Countermeasure Pods

30 AIM-120C Advanced Medium Range Air-to-Air Missiles (AMRAAM)

5 AIM-120C Captive Air Training Missiles (CATMs)

60 AIM-9M Sidewinder Missiles

4 AIM-9M CATMs

48 LAU-129 Launchers

10 GBU-12 Enhanced Guided Bomb Units

18 AGM-65H/KB Maverick Missiles

4 AGM-65 CATMs

15 Multifunctional Information Distribution System/Low Volume Terminals

2 Multifunctional Information Distribution System Ground Support Systems

Also included are spare and repair parts, support equipment, tanker support, ferry services, repair and return services, software development/integration, test and equipment, supply support, personnel training and training equipment, publications and technical data, U.S. Government and contractor technical services, and other related elements of logistics and program support.

(iv) Military Department: Air Force (QAH)

(v) Prior Related Cases: None

(vi) Sales Commission, Fee, etc., Paid, Offered, or Agreed to be Paid: None.

(vii) Sensitivity of Technology: See Attached Annex.

(viii) Date Report Delivered to Congress: 08 Nov 2013

*as defined in Section 47(6) of the Arms Export Control Act.

POLICY JUSTIFICATION

Romania—Weapons, Equipment, and Support for F-16 Block 15 MLU Aircraft

The Government of Romania has requested a possible sale of weapons, equipment, and support for 12 F-16 MLU Block 15 aircraft that will be procured through a third party transfer from Portugal. Articles and services will include:

13 Embedded Global Positioning Systems/Inertial Navigation Systems (EGPS/INS) with GPS Security Devices, Airborne

3 AN/ALQ-131 Electronic Countermeasure Pods

30 AIM-120C Advanced Medium Range Air-to-Air Missiles (AMRAAM)

5 AIM-120C Captive Air Training Missiles (CATMs)

60 AIM-9M Sidewinder Missiles

4 AIM-9M CATMs

48 LAU-129 Launchers

10 GBU-12 Enhanced Guided Bomb Units

18 AGM-65H/KB Maverick Missiles

4 AGM-65 CATMs

15 Multifunctional Information Distribution System/Low Volume Terminals

2 Multifunctional Information Distribution System Ground Support Systems

Also included are spare and repair parts, support equipment, tanker support, ferry services, repair and return services, software development/integration, test and equipment, supply support, personnel training and training equipment, publications and technical data, U.S. Government and contractor technical services, and other related elements of logistics and program support. The estimated cost is $457 million.

The proposed sale will contribute to the foreign policy and national security of the United States by helping to improve security of a NATO ally which continues to be an important force for political stability and economic progress. The proposed sale of weapons, equipment, and support for the transferred F-16s will support Romania's needs for its own self-defense and enhance the interoperability of these aircraft with those of the U.S. and other NATO nations.

The proposed sale will support the Romanian Air Force's (RoAF) efforts to equip and utilize the 12 F-16 aircraft it is procuring from Portugal. These aircraft will provide the RoAF with a fleet of modernized multi-role combat aircraft. This proposed sale of weapons, equipment, and follow-on F-16 support will enable Romania to support both its own air defense needs and coalition operations. The RoAF will have no difficultly absorbing these systems into its armed forces.

The proposed sale of this follow-on support will not alter the basic military balance in the region. The principal contractors will be:

Elbit Systems of America Fort Worth, Texas

Pratt and Whitney East Hartford, Connecticut

BAE Systems Inc. Arlington, Virginia

Lockheed Martin Corp. Fort Worth, Texas

Northrup Grumman Aerospace Systems Redondo Beach, California

ViaSat Inc. Carlsbad, California

Data Link Solutions LLC Cedar Rapids, Iowa

Snap-On Inc. Kenosha, Wisconsin

Booz Allen Hamilton Engineering Services, LLC McLean, Virginia

There are no known offset agreements proposed in connection with this potential sale.

Implementation of this proposed sale will not require the assignment of additional U.S. Government or contractor representatives to Romania.

There will be no adverse impact on U.S. defense readiness as a result of this proposed sale.

Transmittal No. 13-59

Notice of Proposed Issuance of Letter of Offer Pursuant to Section 36(b)(1) of the Arms Export Control Act, as amended

Annex

Item No. vii

(vii) Sensitivity of Technology:

1. The AIM-9M-8/9 Sidewinder Missile includes the following advanced technology: Active Optical Target Detector (AOTD), Gyro Optics Assembly within the Guidance Control Section (GCS), Infrared Countermeasures (IRCM), Detection and Rejection Circuitry, and a reduced smoke rocket motor. The equipment/hardware, software, and maintenance are classified Confidential. Manuals and technical documents are classified Secret. Performance and operating information is classified Secret.

2. The LAU-129 Guided Missile Launcher is capable of launching the AIM-9 family of missile or AIM-120 Advanced Medium Range Air-to-Air Missile (AMRAAM). The LAU-129 launcher provides mechanical and electrical interface between missile and aircraft. There are five versions produced strictly for foreign military sales. The only difference between these launchers is the material they are coated with or the color of the coating.

3. The AIM-120 AMRAAM is a radar-guided missile featuring digital technology and micro-miniature solid-state electronics. The AMRAAM capabilities include look-down/shoot-down, multiple launches against multiple targets, resistance to electronic countermeasures, and interception of high- and low-flying and maneuvering targets. The AMRAAM All Up Round (AUR) is classified Confidential, major components and subsystems range from Unclassified to Confidential, and technical data and other documentation are classified up to Secret.

4. The GBU-12 (500 lb) is a laser guidance kit and tail assembly for general-purpose bombs (MK-82). The hardware is Unclassified and the ballistics are Confidential.

5. AGM-65 Maverick: The AGM-65 air-to-ground missile hardware is Unclassified, but has an overall classification of Secret. The Secret aspects of the Maverick system are tactics, information revealing its vulnerability to countermeasures, and counter-countermeasures. Manuals and technical documents that are necessary for operational use and organizational maintenance have portions that are classified Confidential. Performance and operating logic of countermeasures circuits are Secret.

6. The Multifunctional Information Distribution System-Low Volume Terminal (MIDS-LVT) is an advanced Link-16 command, control, communications, and intelligence (C3I) system incorporating high-capacity, jam-resistant, digital communication links for exchange of near real-time tactical information, including both data and voice, among air, ground, and sea elements. MIDS-LVT is intended to support key theater functions such as surveillance, identification, air control, weapons engagement coordination, and direction for all services and allied forces. The system will provide jamming-resistant, wide-area communications on a Link-16 network among MIDS and Joint Tactical Information Distribution System (JTIDS) equipped platforms. The MIDS/LVT and MIDS On Ship Terminal hardware, publications, performance specifications, operational capability, parameters, vulnerabilities to countermeasures, and software documentation are classified Confidential. The classified information to be provided consists of that which is necessary for the operation, maintenance, and repair (through intermediate level) of the data link terminal, installed systems, and related software. Group A provision only will be transferred initially.

7. EGI LN-260: The Embedded GPS-INS (EGI) LN-260 is a sensor that combines GPS and inertial sensor inputs to provide accurate location information for navigation and targeting. The EGI LN-260 is Unclassified. The GPS crypto variable keys needed for highest GPS accuracy are classified up to Secret.

8. The ALQ-131 is a pod-mounted Receiver/Processor that detects, analyzes, identifies and prioritizes threat radars for effective jamming. The Receiver/Processor is a wideband, frequency agile super heterodyne receiver with a self-contained processor for signal sorting and threat ID. It provides the jammer with power management while look-through maximizes jammer effectiveness. It has been a standard jamming system for USAF and 11 other countries.

9. If a technologically advanced adversary were to obtain knowledge of the specific hardware and software elements, the information could be used to develop countermeasures that might reduce weapon system effectiveness or be used in the development of a system with similar advanced capabilities.

10. A determination has been made that the recipient country can provide the same degree of protection for the sensitive technology being released as the U.S. Government. This sale is necessary in furtherance of the U.S. foreign policy and national security objectives outlined in the Policy Justification.

[FR Doc. 2013-27538 Filed 11-15-13; 8:45 am]

BILLING CODE 5001-06-P